DEPARTMENT OF COMMERCE

National Oceanic and Atmospheric Administration

50 CFR Part 679

[Docket No. 000211040-0040-01; I.D. 092100C]

Fisheries of the Exclusive Economic Zone Off Alaska; Pacific Cod in the Bering Sea and Aleutian Islands Management Area

AGENCY: National Marine Fisheries Service (NMFS), National Oceanic and Atmospheric Administration (NOAA), Commerce.

ACTION: Proposed reallocation, request for comments.

SUMMARY: Based on currently available information, NMFS has determined that the trawl catcher/processor sector will not be able to harvest its entire share of the Pacific cod total allowable catch (TAC) in the Bering Sea and Aleutian Islands management area (BSAI). NMFS proposes to make the projected unused amount of the trawl catcher/processor sector share of the Pacific cod TAC available to the trawl catcher vessel sector. NMFS also is proposing to reallocate the projected unused amount of Pacific cod from the trawl catcher/processor sector to vessels using hook-and-line or pot gear in the BSAI. NMFS invites public comments, particularly from the trawl catcher vessel sector, on NMFS’s proposal to reallocate the unused amount of Pacific cod from the trawl catcher/processor sector to vessels using hook-and-line and pot gear. The proposed action is necessary to allow the 2000 TAC of Pacific cod to be harvested.

DATES: Comments must be received at the following address no later than 4:30 p.m., Alaska local time, October 12, 2000.

ADDRESSES:

Comments may be sent to Sue Salveson, Assistant Regional Administrator for Sustainable Fisheries, Alaska Region, NMFS, 709 West 9th, room 453, Juneau, AK 99801 or P.O. Box 21668, Juneau, AK 99802, Attention: Lori Gravel.

FOR FURTHER INFORMATION CONTACT: Andrew N. Smoker, 907-586-7210.

SUPPLEMENTARY INFORMATION: NMFS manages the groundfish fishery in the BSAI exclusive economic zone according to the Fishery Management Plan for the Groundfish Fishery of the Bering Sea and Aleutian Islands Area (FMP) prepared by the North Pacific Fishery Management Council under authority of the Magnuson-Stevens Fishery Conservation and Management Act. Regulations governing fishing by U.S. vessels in accordance with the FMP appear at subpart H of 50 CFR part 600 and 50 CFR part 679.

In accordance with § 679.20(c)(3)(iii), the Final 2000 Harvest Specifications of Groundfish for the BSAI (65 FR 8282, February 18, 2000) established the amount of the 2000 Pacific cod TAC as 193,000 metric tons (mt). Pursuant to § 679.20(a)(7)(i)(A), 3,571 mt was allocated to vessels using jig gear, 91,048 mt to vessels using hook-and-line or pot gear, and 83,905 mt to vessels using trawl gear. The share of the Pacific cod TAC allocated to trawl gear was further allocated 50 percent to catcher vessels and 50 percent to catcher/processor vessels (§ 679.20 (a)(7)(i)(B)).

As of September 2, 2000, the Administrator, Alaska Region, NMFS (Regional Administrator), has determined that 14,150 mt remain in the trawl catcher/processor sector share and projects that the trawl catcher/processor sector will not harvest 9,000 mt of that share during the remainder of 2000. The Regional Administrator has also determined that 864 mt remain in the trawl catcher sector share.

Pursuant to § 679.20 (a)(7)(ii)(A), NMFS is required to make the projected unused amount of the trawl catcher/processor sector share of Pacific cod available to the trawl catcher vessel sector before making it available to other gear types. From the years 1997 through 1999 after September 1, the trawl catcher vessel sector of the fishery has taken about 200 mt or less per year in the Pacific cod target and averaged about 800 mt of catch of Pacific cod in all targets. Current inseason data supports a projection of 800 mt for the catcher vessel sector. At the time of this proposal no evidence exists that trawl catcher vessel effort in the Pacific cod fishery will increase beyond what has occurred on the average during the last 3 years.

In accordance with § 679.20 (a)(7)(ii)(C), NMFS proposes to reallocate the projected unused amount (9,000 mt) of Pacific cod from the trawl catcher/processor sector to vessels using hook-and-line or pot gear.

NMFS invites public comments, particularly from the trawl catcher vessel sector, on (1) NMFS’ determination that the trawl catcher/processor sector will not be able to harvest its share of the Pacific cod TAC, on (2) whether the catcher vessel sector would be able to harvest the projected unused catcher/processor sector share, and (3) NMFS’ proposal to reallocate the unused amount of Pacific cod from the trawl catcher/processor sector to hook-and-line and pot gear sectors.

Classification

This action is taken under 50 CFR 679.20 and is exempt from Office of Management and Budget review under Executive Order 12866.

Authority: 16 U.S.C. 1801 et seq.

Dated: September 26, 2000.
Bruce C. Morehead,
Acting Director, Office of Sustainable Fisheries, National Marine Fisheries Service.

[FR Doc. 00-25170 Filed 9-27-00; 3:47 pm]

BILLING CODE 3510-22-S